DEPARTMENT OF JUSTICE

Parole Commission

Public Announcement; Pursuant to the Government In the Sunshine Act; (Pub. L. 94-409) [5 U.S.C. 552b]

AGENCY HOLDING MEETING: Department of Justice, United States Parole Commission.

Date and Time: 2 p.m., Monday, October 26, 2009.

Place: U.S. Parole Commission, 5550 Friendship Boulevard, 4th Floor, Chevy Chase, Maryland 20815.

Status: Closed.

Matters to be Considered: The following matter will be considered during the closed meeting:

One consideration of an original jurisdiction case pursuant to 28 CFR 2.27.

Agency Contact: Thomas W. Hutchison, Chief of Staff, United States Parole Commission, (301) 492-5990.

Dated: October 20, 2009.
Rockne Chickinell,
General Counsel, U.S. Parole Commission.

[FR Doc. E9-25647 Filed 10-26-09; 8:45 am]

BILLING CODE 4410-31-M